DEPARTMENT OF VETERANS AFFAIRS

Advisory Committee on Prosthetics and Special-Disabilities Programs; Notice of Meeting

The Department of Veterans Affairs (VA) gives notice under the Federal Advisory Committee Act, 5 U.S.C. App. 2, that a meeting of the Federal Advisory Committee on Prosthetics and Special-Disabilities Programs will be held on November 8-9, 2012, in Room 730 at 810 Vermont Avenue NW., Washington, DC. The meeting will convene at 8:30 a.m. on both days, and will adjourn at 4:30 p.m. on November 8 and at 12 noon on November 9. The meeting is open to the public.

The purpose of the Committee is to advise the Secretary of Veterans Affairs on VA's prosthetics programs designed to provide state-of-the-art prosthetics and the associated rehabilitation research, development, and evaluation of such technology. The Committee also provides advice to the Secretary on special-disabilities programs, which are defined as any program administered by the Secretary to serve Veterans with spinal cord injuries, blindness or visual impairments, loss of extremities or loss of function, deafness or hearing impairment, and other serious incapacities in terms of daily life functions.

On November 8, the Committee will receive briefings on the Physical Therapy Program; Physical Medicine and Rehabilitation; Optometric Services; Rural Health Programs and Spinal Cord Injury/Disorders. On November 9, the Committee will receive a briefing on Rehabilitation and Prosthetic Services.

No time will be allocated for receiving oral presentations from the public. However, members of the public may direct questions or submit written statements for review by the Committee in advance of the meeting to Mr. Larry N. Long, Designated Federal Officer, Veterans Health Administration, Patient Care Services, Rehabilitation Services (10P4RD), VA, 810 Vermont Avenue NW., Washington, DC, 20420, or by email at lonlar@va.gov. Any member of the public wishing to attend the meeting should contact Mr. Long at (202) 461-7354.

Dated: October 23, 2012.
By Direction of the Secretary.
Vivian Drake,
Committee Management Officer.

[FR Doc. 2012-26446 Filed 10-26-12; 8:45 am]

BILLING CODE P